DEPARTMENT OF ENERGY

Federal Energy Regulatory Commission

[Docket Nos. CP00-6-011 and RP03-173-002]

Gulfstream Natural Gas System, L.L.C.; Notice of Compliance Filing

March 26, 2004.

Take notice that on March 3, 2004, Gulfstream Natural Gas System, L.L.C. (Gulfstream) tendered for filing as part of its FERC Gas Tariff, Original Volume No. 1, Second Revised Sheet No. 131, with an effective date of May 1, 2004, and the following tariff sheets, with effective dates of March 1, 2004.

Second Revised Sheet No. 137A;

First Revised Sheet No. 140;

Original Sheet No. 140A; and

First Revised Sheet No. 141

Gulfstream states that the purpose of this filing is to comply with the Commission's Order issued in the captioned dockets on February 17, 2004. Gulfstream states that the revised tariff sheets implement a mechanism for charging and crediting OBA Parties when they cash out their imbalances.

Gulfstream states that it has served this filing on all parties on the Commission's Official Service List in this proceeding.

Any person desiring to protest said filing should file a protest with the Federal Energy Regulatory Commission, 888 First Street, NE., Washington, DC 20426, in accordance with section 385.211 of the Commission's Rules and Regulations. All such protests must be filed on or before the date as indicated below. Protests will be considered by the Commission in determining the appropriate action to be taken, but will not serve to make protestants parties to the proceedings. This filing is available for review at the Commission in the Public Reference Room or may be viewed on the Commission's Web site at http://www.ferc.gov using the eLibrary link. Enter the docket number excluding the last three digits in the docket number field to access the document. For assistance, please contact FERC Online Support at FERCOnlineSupport@ferc.gov or toll-free at (866) 208-3676, or TTY, contact (202) 502-8659. The Commission strongly encourages electronic filings. See, 18 CFR 385.2001(a)(1)(iii) and the instructions on the Commission's Web site under the e-Filing link.

Protest Date: April 1, 2004.

Magalie R. Salas,
Secretary.

[FR Doc. E4-736 Filed 3-31-04; 8:45 am]

BILLING CODE 6717-01-P